DEPARTMENT OF COMMERCE

National Oceanic and Atmospheric Administration

ENVIRONMENTAL PROTECTION AGENCY

Coastal Nonpoint Pollution Control Program: Intent To Find That Georgia Has Satisfied All Conditions of Approval Placed on Its Coastal Nonpoint Pollution Control Program

AGENCY: National Oceanic and Atmospheric Administration, U.S. Department of Commerce, and Environmental Protection Agency.

ACTION: Notice of Intent to find that Georgia has satisfied all conditions of approval on its coastal nonpoint pollution control program.

SUMMARY: The National Oceanic and Atmospheric Administration (NOAA) and Environmental Protection Agency (EPA) (the federal agencies) invite public comment on the agencies' proposed finding that Georgia has satisfied all conditions on the 2002 approval of the State's coastal nonpoint pollution control program (coastal nonpoint program). The Coastal Zone Act Reauthorization Amendments (CZARA) directs states and territories with coastal zone management programs previously approved under Section 306 of the Coastal Zone Management Act to develop and implement coastal nonpoint programs, which must be submitted to the federal agencies for approval. Prior to making such a finding, NOAA and EPA invite public input on the federal agencies' reasoning for this proposed finding.

DATES: Individuals or organizations wishing to submit comments on the proposed findings document should do so by July 26, 2018.

ADDRESSES: Comments can be made by email to: ocm.czara@noaa.gov, or in writing to Joelle Gore, Chief, Stewardship Division (N/OCM6), Office for Coastal Management, NOS, NOAA, 1305 East-West Highway, Silver Spring, Maryland 20910, phone (240) 533-0813, to the ATTN: Georgia Coastal Nonpoint Program. All comments received will be posted without change to https://coast.noaa.gov/czm/pollutioncontrol/, including any personal information provided. The federal agencies may publish any comment received. Do not submit electronically any information you consider to be Confidential Business Information (CBI) or other information whose disclosure is restricted by statute. Multimedia submissions (audio, video, etc.) must be accompanied by a written comment. The written comment is considered the official comment and should include discussion of all points you wish to make. The federal agencies will generally not consider comments or comment contents located outside of the primary submission (i.e. on the web, cloud, or other file sharing system).

FOR FURTHER INFORMATION CONTACT: Copies of the proposed Findings Document may be found on NOAA's Coastal Nonpoint Pollution Control Program website at https://coast.noaa.gov/czm/pollutioncontrol/. Additional background information on the state's program may be obtained upon request from: Allison Castellan, Stewardship Division (N/OCM6), Office for Coastal Management, NOS, NOAA, 1305 East-West Highway, Silver Spring, Maryland 20910, phone (240) 533-0799, email allison.castellan@noaa.gov.

SUPPLEMENTARY INFORMATION: Section 6217(a) of the Coastal Zone Act Reauthorization Amendments (CZARA), 16 U.S.C. 1455b(a), requires that each state (or territory) with a coastal zone management program previously approved under section 306 of the Coastal Zone Management Act must prepare and submit to the federal agencies a coastal nonpoint pollution control program for approval. Georgia originally submitted its program to the federal agencies for approval in December 1999. The federal agencies provided public notice of and invited public comment on their proposal to approve, with conditions, the Georgia program (66 FR 49643). The federal agencies approved the program by letter dated June 4, 2002, subject to the conditions specified in the letter (67 FR 38471). The federal agencies propose to find, and invite public comment on the proposed findings, that Georgia has now fully satisfied all conditions of the earlier approval of its coastal nonpoint program.

Over time, Georgia has made changes to its program in order to satisfy the identified conditions. As explained in the proposed findings document, the federal agencies have determined that Georgia has fully met all conditions originally placed on its program. The proposed findings document describes how the State program has satisfied the conditions.

The proposed findings document for Georgia's program as well as information on the Coastal Nonpoint Program in general is available for download on the NOAA website at https://coast.noaa.gov/czm/pollutioncontrol/.

Dated: June 18, 2018.
W. Russell Callender,
Assistant Administrator for Ocean Services, National Oceanic and Atmospheric Administration.
David P. Ross,
Assistant Administrator, Office of Water, Environmental Protection Agency.

[FR Doc. 2018-13613 Filed 6-25-18; 8:45 am]

BILLING CODE 3510-08-P